DEPARTMENT OF AGRICULTURE

Forest Service

Apache-Sitgreaves National Forests; Arizona; Revised Land and Resource Management Plan

AGENCY: Forest Service, USDA.

ACTION: Notice of Initiation to revise the Apache-Sitgreaves National Forests' Land and Resource Management Plan.

SUMMARY: The Forest Service is revising the Apache-Sitgreaves National Forests' Land and Resource Management Plan (hereafter referred to as the forest plan). This notice describes the documents available for review and how to obtain them; summarizes the need to change the forest plan; provides information concerning public participation and collaboration, including the process for submitting comments; provides an estimated schedule for the planning process, including the time available for comments; and includes names and addresses for agency officials who can provide additional information.

DATES: Revision formally begins with the publication of this notice in the Federal Register. To be most beneficial to the planning process, your comments on the need for change should be submitted by February 16, 2009. A series of public meetings to build the proposed plan are tentatively planned for late spring 2009. The dates, times, and locations of these meetings will be posted on the forests' Web site: http://www.fs.fed.us/r3/asnf/plan-revision/.

ADDRESSES: Send written comments to: Apache-Sitgreaves National Forests, Attention: Forest Plan Revision Team, P.O. Box 640, Springerville, Arizona 85938. E-mail: asnf.planning@fs.fed.us.

FOR FURTHER INFORMATION CONTACT: Michelle Davalos at (928) 333-6334 or Deryl Jevons at (928) 333-6261; or e-mail the plan revision team at: asnf.planning@fs.fed.us.

SUPPLEMENTARY INFORMATION:

Documents Available for Review

The Comprehensive Evaluation Report, the Ecological Sustainability Report, and the Economic and Social Assessment are the forest plan revision analyses documents that provide evaluations of social, economic, and ecological conditions and trends in and around the Apache-Sitgreaves National Forests. The information outlined in the Comprehensive Evaluation Report identifies the need to change or revise the 1987 forest plan. These documents are available for review and are located on the forests' Web site at http://www.fs.fed.us/r3/asnf/plan-revision/documents.shtml or by request.

Need for Change

The need for change has been organized into three revision topics: 1. Maintenance and Improvement of Ecosystem Health, 2. Managed Recreation, and 3. Community-Forest Interaction. For each of the revision topics, there is a need for the revised forest plan to:

1. Maintenance and Improvement of Ecosystem Health

◦ Adequately describe desired conditions for the vegetative communities regarding: composition, structure, and cover; resilient, functioning ecosystems; fire regimes; and plant and animal diversity.

◦ Provide direction regarding invasive species.

◦ Address the emerging issue of climate change by incorporating adaptive management strategies and describing ecological conditions that are resilient to change.

2. Managed Recreation

◦ Update the spectrum of recreation opportunities and the suitability of areas for motorized vehicle use.

◦ Incorporate direction for existing special areas that were not included in the current forest plan.

◦ Identify rivers that are eligible for the National Wild and Scenic Rivers System.

◦ Evaluate lands for wilderness potential and, if appropriate, recommend designation by Congress.

3. Community-Forest Interaction

◦ Reduce the risk to communities and natural resources from wildfire and provide guidance for addressing urban interface demands (access, trailheads, special use permits).

◦ Address community expansion needs, preservation of open space, and water during land ownership adjustments.

◦ Address a sustainable supply of forest and rangeland resources that is consistent with achieving desired conditions and that supports local communities.

◦ Update the criteria for establishing new energy (utility) corridors.

(Reference: Comprehensive Evaluation Report.)

Public Participation and Opportunity To Comment

The revision process is designed to provide continued opportunities for public collaboration and open participation in the development of the revised forest plan. Additional information on the process, the documents being produced, and public participation opportunities can be found on the Apache-Sitgreaves National Forests' plan revision Web site at: http://www.fs.fed.us/r3/asnf/plan-revision/.

The Forest Service is seeking public comments on the need for change identified in the Comprehensive Evaluation Report. Substantive comments received by February 16, 2009 will be of the most value in evaluating public response to the adequacy of the need for change topics outlined in the report.

It is important to participate in the plan revision process as only those parties who participate following the publication of this notice through the submission of written comments can submit an objection later in the proposed plan development process pursuant to 36 CFR 219.13(a). Comments received during the planning process, including the names and addresses of those who commented will be part of the public record available for public inspection. The Responsible Official shall accept and consider comments submitted anonymously. Submit written comments to the address noted above.

Estimated Planning Process Schedule

The revision process for the Apache-Sitgreaves National Forests officially begins with the publication of this notice in the Federal Register. A series of public meetings to begin building the revised plan is tentatively planned for late spring 2009. The dates, times, and locations of these meetings will be posted on the forests' Web site: http://www.fs.fed.us/r3/asnf/plan-revision/. A draft proposed forest plan is currently scheduled to be issued for pre-decisional review in September 2009 and final plan approval in September 2010.

Responsible Official

The Forest Supervisor, Chris Knopp, is the Responsible Official (36 CFR 219.2(b)(1)).

(Authority: 36 CFR 219.9(b)(2)(i), 73 FR 21509, April 21, 2008)

Dated: December 8, 2008.
Chris Knopp,
Forest Supervisor.

[FR Doc. E8-29729 Filed 12-15-08; 8:45 am]

BILLING CODE 3410-11-P